DEPARTMENT OF LABOR

Office of Workers' Compensation Programs

20 CFR Parts 1 and 30

RIN 1215-AB32

Performance of Functions Under This Chapter; Claims for Compensation Under the Energy Employees Occupational Illness Compensation Program Act of 2000, as Amended

AGENCY: Office of Workers' Compensation Programs, Employment Standards Administration, Labor.

ACTION: Final rule; compliance with information collection requirements.

SUMMARY: The Office of Workers' Compensation Programs (OWCP) is announcing that a revision of a currently approved collection of information has been approved by the Office of Management and Budget (OMB), under the Paperwork Reduction Act of 1995, for the Energy Employees Occupational Illness Compensation Program Act of 2000, as amended. This notice announces both the OMB approval number and expiration date.

DATES: Effective Date: The final rule published at 67 FR 78874 continues to be effective as of February 24, 2003.

Compliance Date: As of March 25, 2003, affected parties must comply with the new information collection requirements in §§ 30.112 and 30.213 of the final rule, which have been approved as a revision of a currently approved collection by OMB under the Paperwork Reduction Act of 1995 (PRA), 44 U.S.C. 3501 et seq.

FOR FURTHER INFORMATION CONTACT: Shelby Hallmark, Director, Office of Workers' Compensation Programs, Employment Standards Administration, U.S. Department of Labor, Room S-3524, 200 Constitution Avenue, NW., Washington, DC 20210. Telephone: 202-693-0036 (this is not a toll-free number).

SUPPLEMENTARY INFORMATION: On December 26, 2002, OWCP published a final rule governing its administration of the Energy Employees Occupational Illness Compensation Program Act of 2000, as amended (EEOICPA), 42 U.S.C. 7384 et seq., and requested OMB approval under the PRA of a revision of a currently approved collection for the EEOICPA. The new information collection requirements that needed OMB approval are in §§ 30.112 and 30.213 of the final rule.

On March 17, 2003, OMB approved the requested revision to a currently approved collection for the EEOICPA. This particular collection now consists of the following forms/reporting requirements: EE-1, Claim for Benefits Under Energy Employees Occupational Illness Compensation Program Act; EE-2, Claim for Survivor Benefits Under Energy Employees Occupational Illness Compensation Program Act; EE-3, Employment History for Claim Under Energy Employees Occupational Illness Compensation Program Act; EE-4, Employment History Affidavit for Claim Under the Energy Employees Occupational Illness Compensation Program Act; EE-7, Medical Requirements Under the Energy Employees Occupational Illness Compensation Program Act; EE/EN-8, letter to claimant requesting information for lung cancer claim; EE/EN-9, letter to claimant requesting information for skin cancer claim; EE/EN-20, Acceptance of Payment Under the Energy Employees Occupational Illness Compensation Program Act; EE-915, Claim for Medical Reimbursement Under the Energy Employees Occupational Illness Compensation Program Act; 20 CFR 30.112, supplemental employment evidence required when an alleged employment history cannot be verified; and 20 CFR 30.214, supplemental medical evidence required when an injury, illness or disability is allegedly sustained as a consequence of a covered occupational illness.

The control number assigned to this information collection by OMB is 1215-0197. The approval for this information collection will expire on July 31, 2004.

Signed at Washington, DC, this 18th day of March, 2003.
Shelby Hallmark,
Director, Office of Workers' Compensation Programs, Employment Standards Administration.

[FR Doc. 03-7013 Filed 3-24-03; 8:45 am]

BILLING CODE 4510-CR-P